DEPARTMENT OF COMMERCE

National Oceanic and Atmospheric Administration

[RTID 0648-XE468]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet in December. The meetings will be held via hybrid conference.

DATES: The meetings will be held December 2, 2024, through December 10, 2024. See SUPPLEMENTARY INFORMATION for specific dates and times.

ADDRESSES: The meetings will be a hybrid conference. The in-person component of the meeting will be held at the Egan Center, 555 W 5th Ave, Anchorage, AK 99501, or join the meeting online through the links at https://www.npfmc.org/current-or-next-council-meeting/.

Council address: North Pacific Fishery Management Council, 1007 W 3rd Ave., Suite 400, Anchorage, AK 99501-2252; telephone: (907) 271-2809. Instructions for attending the meeting via web conference are given under Connection Information.

FOR FURTHER INFORMATION CONTACT: Diana Evans, Council staff; email: diana.evans@noaa.gov; telephone: (907) 271-2809. For technical support, please contact our Council administrative staff, email: npfmc.admin@noaa.gov.

SUPPLEMENTARY INFORMATION: The Council's Scientific and Statistical Committee (SSC) will begin at 8 a.m. on Monday, December 2, 2024, and continue through Wednesday, December 4, 2024. The Council's Advisory Panel (AP) will begin at 8 a.m. on Tuesday, December 3, 2024, and continue through Friday, December 6, 2024. The Council will begin at 8 a.m. on Thursday, December 5, 2024, and continue through Tuesday, December 10, 2024. The Individual Fishing Quota (IFQ) Committee will meet Monday, December 2, 2024, from 10 a.m. to 3:30 p.m. The Charter Halibut Management Committee will meet Tuesday, December 3, 2024, from 8 a.m. to 5 p.m. Both committee meetings will be held in the North Pacific Fishery Management Council's Conference Room; 1007 W 3rd Ave, Suite 400, Anchorage, AK 99501-2252. All times listed are Alaska Time.

Agenda

Monday, December 2, 2024 through Wednesday, December 4, 2024

The SSC agenda will include the following issues:

1. Administrative Issues

2. Bering Sea Aleutian Islands (BSAI) Groundfish Specifications—review Bering Sea (BS) and AI (Aleutian Islands) Ecosystem Status Reports (ESR), Stock Assessment and Fishery Evaluation (SAFE) report; adopt Acceptable Biological Catch (ABC)/Over Fishing Limits (OFLs); Joint Groundfish Plan Teams and BSAI Groundfish Plan Team reports

3. Gulf of Alaska (GOA) Groundfish harvest specifications—review GOA ESR, SAFE report; adopt Total Allowable Catch (TAC)/ABC/OFLs; GOA Groundfish Plan Team report

4. BSAI Crab specifications—review Norton Sound red king crab (NSRKC) SAFE report chapter and adopt ABC/OFL; BSAI Crab Plan Team report

The agenda is subject to change, and the latest version will be posted at https://meetings.npfmc.org/Meeting/Details/3067 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Monday, December 2, 2024

IFQ Committee Agenda

The IFQ Committee agenda will include: (a) IFQ program review; (b) committee draft Terms of Reference; and (c) other business. The agenda is subject to change, and the latest version will be posted at https://meetings.npfmc.org/Meeting/Details/3060 prior to the meeting, along with meeting materials.

Tuesday, December 3, 2024

Charter Halibut Management Committee Agenda

The Charter Halibut Management Committee agenda will include: (a) 2025 management measures, and (b) other business. The agenda is subject to change, and the latest version will be posted at https://meetings.npfmc.org/Meeting/Details/3068 prior to the meeting, along with meeting materials.

Tuesday, December 3, 2024, Through Friday, December 6, 2024

The Advisory Panel agenda will include the following issues:

1. Administrative Issues

2. Amendment 80 Program Review Report—Review

3. BSAI Groundfish specifications—review BS and AI Ecosystem Status Reports, SAFE report; adopt TAC/ABC/OFLs; Joint Groundfish Plan Teams and BSAI Groundfish Plan Team reports

4. BSAI Crab arbitration—Discussion paper

5. BSAI Crab C-shares—Discussion paper

6. Climate planning: Review: (a) Inflation Reduction Act (IRA) update and draft workplan, (b) Bering Sea Fishery Ecosystem Plan (BSFEP) Climate Change Taskforce (CCTF) final report, and (c) Alaska Fishery Science Center (AFSC) Climate, Ecosystems and Fisheries Initiative (CEFI) updates

7. GOA Groundfish harvest specifications—review GOA Ecosystem Status Report, SAFE report; adopt TAC/ABC/OFLs; GOA Groundfish Plan Team report

8. BSAI Crab specifications—review NSRKC SAFE report chapter and adopt ABC/OFL; BSAI Crab Plan Team report

9. Individual Fishing Quota (IFQ) Program Review Report—review, IFQ Committee report

10. 2025 Charter Halibut Annual Management Measures—Final action; Committee report

11. Staff Tasking

Thursday, December 5, 2024, Through Tuesday, December 10, 2024

The Council agenda will include the following issues. The Council may take appropriate action on any of the issues identified.

1. B Reports (Executive Director report, NMFS Management (including Northern Fur Seal Conservation Plan report, Final 2025 Annual Deployment Plan, year-end inseason management report, report on National Seafood Strategy, National Environmental Policy Act (NEPA) changes), NOAA General Counsel (GC), NOAA Enforcement Report, Alaska Department of Fish and Game (ADF&G), United States Coast Guard (USCG), United States Fish and Wildlife Service (USFWS), U.S. State Department Report, Advisory Panel, SSC report)

2. BSAI Groundfish specifications—review BS and AI ESRs, SAFE report; adopt TAC/ABC/OFLs; Joint Groundfish Plan Teams and BSAI Groundfish Plan Team reports

3. GOA Groundfish harvest specifications—review GOA ESR, SAFE report; adopt TAC/ABC/OFLs; GOA Groundfish Plan Team report

4. BSAI Crab specifications—review NSRKC SAFE report chapter and adopt ABC/OFL; BSAI Crab Plan Team report

5. 2025 Charter Halibut Annual Management Measures—Final action; Committee report

6. Climate planning: Review: (a) IRA update and draft workplan, (b) Bering Sea Fishery Ecosystem Plan (BSFEP) Climate Change Taskforce (CCTF) final report, and (c) AFSC CEFI updates

7. BSAI Crab arbitration—Discussion paper

8. BSAI Crab C-shares—Discussion paper

9. Amendment 80 Program Review Report—Review

10. Individual Fishing Quota (IFQ) Program Review Report—review, IFQ Committee report

11. Staff Tasking

Connection Information

You can attend the meeting online using a computer, tablet, or smart phone, or by phone only. Connection information will be posted online at: https://www.npfmc.org/upcoming-council-meetings. For technical support, please contact our administrative staff, email: npfmc.admin@noaa.gov.

If you are attending the meeting in-person, please refer to the COVID avoidance protocols on our website, https://www.npfmc.org/current-or-next-council-meeting/.

Public Comment

Public comment letters will be accepted and should be submitted electronically through the links at https://www.npfmc.org/current-or-next-council-meeting/. The Council strongly encourages written public comment for this meeting, to avoid any potential for technical difficulties to compromise oral testimony. The written comment period is open from November 15, 2024 to November 29, 2024, and closes at 12 p.m. Alaska Time on Friday, November 29, 2024.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: November 8, 2024.
Alyssa Weigers,
Acting Deputy Director, Office of Sustainable Fisheries, National Marine Fisheries Service.

[FR Doc. 2024-26502 Filed 11-13-24; 8:45 am]

BILLING CODE 3510-22-P